DEPARTMENT OF AGRICULTURE

Forest Service

Dakota Prairie Grasslands; North Dakota; Withdrawal of the Notice of Intent for Dakota Prairie Grasslands Land and Resource Plan Amendment and Site-Specific Projects for the Elkhorn Ranchlands

AGENCY: Forest Service, Agriculture (USDA).

ACTION: Notice; withdrawal.

The Dakota Prairie Grasslands is withdrawing its notice of intent to prepare an environmental impact statement for the Dakota Prairie Grasslands Land and Resource Management Plan amendment and site-specific projects for the Elkhorn Ranchlands acquired lands. The original notice of intent was published in the Federal Register on October 8, 2008, document number E8-23812. The Dakota Prairie Grasslands will assign management area allocations for these lands with a land management plan administrative change as described in the land exchange regulations at 36 CFR 254.3 and planning regulations at 36 CFR 219.13.

FOR FURTHER INFORMATION CONTACT: Questions concerning this notice should be directed to LeAnn Colburn via U.S. postal mail at Dakota Prairie Grasslands Supervisors Office, 2000 Miriam Circle, Bismarck, ND 58501; via telephone at 701-989-7304; or via email at leann.colburn@usda.gov.

Individuals who use telecommunications devices for the hearing impaired may call 711 to reach the Telecommunications Relay Service, 24 hours a day, every day of the year, including holidays.

Keith Lannom,
Associate Deputy Chief, National Forest System.

[FR Doc. 2024-22153 Filed 9-26-24; 8:45 am]

BILLING CODE 3411-15-P